DEPARTMENT OF HOMELAND SECURITY

Coast Guard

33 CFR Part 53

[USCG-2009-0239]

RIN 1625-AB33

Protection for Whistleblowers in the Coast Guard

AGENCY: Coast Guard, DHS.

ACTION: Direct final rule; request for comments.

SUMMARY: By this direct final rule, the Coast Guard is amending its “Coast Guard Whistleblower Protection” regulations to conform to statutory protections for all members of the Armed Forces. The revised regulations broaden the protection already afforded uniformed members of the Coast Guard by: Providing that uniformed Coast Guard members may make protected communications to other persons and organizations in additiPn to Members of Congress or an Inspector General, and expanding the subject matter of protected communications to include information that the member reasonably believes constitutes evidence of sexual harassment and discrimination, among other subjects. Additionally, changes to the regulations update the responsibilities of the Inspector General of the Department of Homeland Security to conform to relevant statutory provisions.

DATES: This rule is effective April 20, 2011, unless an adverse comment or notice of intent to submit an adverse comment is either submitted to our online docket via http://www.regulations.gov on or before February 22, 2011, or reaches the Docket Management Facility by that date. If an adverse comment or notice of intent to submit an adverse comment is received by February 22, 2011, we will withdraw this direct final rule and publish a timely notice of withdrawal in the Federal Register.

ADDRESSES: You may submit comments identified by docket number USCG-2009-0239 using any one of the following methods:

(1) Federal eRulemaking Portal: http://www.regulations.gov.

(2) Fax: 202-493-2251.

(3) Mail: Docket Management Facility (M-30), U.S. Department of Transportation, West Building Ground Floor, Room W12-140, 1200 New Jersey Avenue SE., Washington, DC 20590-0001.

(4) Hand delivery: Same as mail address above, between 9 a.m. and 5 p.m., Monday through Friday, except Federal holidays. The telephone number is 202-366-9329.

To avoid duplication, please use only one of these four methods. See the “Public Participation and Request for Comments” portion of the SUPPLEMENTARY INFORMATION section below for instructions on submitting comments.

FOR FURTHER INFORMATION CONTACT: If you have questions on this rule, e-mail or call Commander Michael Cavallaro, U.S. Coast Guard Office of General Law, telephone 202-372-3777, e-mail Michael.S.Cavallaro@uscg.mil. If you have questions on viewing or submitting material to the docket, call Renee V. Wright, Program Manager, Docket Operations, telephone 202-366-9826.

SUPPLEMENTARY INFORMATION:

Table of Contents

I. Public Participation and Request for Comments

A. Submitting Comments

B. Viewing Comments and Documents

C. Privacy Act

D. Public Meeting

II. Abbreviations

III. Regulatory Information

IV. Background

V. Discussion of the Rule

VI. Regulatory Analysis

A. Regulatory Planning and Review

B. Small Entities

C. Collection of Information

D. Federalism

E. Unfunded Mandates Reform Act

F. Taking of Private Property

G. Civil Justice Reform

H. Protection of Children

I. Indian Tribal Governments

J. Energy Effects

K. Technical Standards

L. Environment

I. Public Participation and Request for Comments

We encourage you to participate in this rulemaking by submitting comments and related materials. All comments received will be posted, without change, to http://www.regulations.gov and will include any personal information you have provided.

A. Submitting Comments

If you submit comments, please include the docket number for this rulemaking (USCG-2009-0239), indicate the specific section of this document to which each comment applies, and provide a reason for each suggestion or recommendation. You may submit your comments and material online, or by fax, mail or hand delivery, but please use only one of these means. We recommend that you include your name and a mailing address, an e-mail address, or a phone number in the body of your document so that we can contact you if we have questions regarding your submission.

To submit your comment online, go to http://www.regulations.gov, and type “USCG-2009-0239” in the “Keyword” box. If you submit your comments by mail or hand delivery, submit them in an unbound format, no larger than 8½ by 11 inches, suitable for copying and electronic filing. If you submit them by mail and would like to know that they reached the Facility, please enclose a stamped, self-addressed postcard or envelope. We will consider all comments and material received during the comment period.

B. Viewing Comments and Documents

To view comments, as well as documents mentioned in this preamble as being available in the docket, go to http://www.regulations.gov, click on the “read comments” box, which will then become highlighted in blue. In the “Keyword” box type “USCG-2009-0239” and click “Search.” Click the “Open Docket Folder” in the “Actions” column. If you do not have access to the internet, you may also view the docket online by visiting the Docket Management Facility in Room W12-140 on the ground floor of the Department of Transportation West Building, 1200 New Jersey Avenue, SE., Washington, DC 20590, between 9 a.m. and 5 p.m., Monday through Friday, except Federal holidays. We have an agreement with the Department of Transportation to use the Docket Management Facility.

C. Privacy Act

Anyone can search the electronic form of comments received into any of our dockets by the name of the individual submitting the comment (or signing the comment, if submitted on behalf of an association, business, labor union, etc.). You may review a Privacy Act notice regarding our public dockets in the January 17, 2008 issue of the Federal Register (73 FR 3316).

D. Public Meeting

We do not now plan to hold a public meeting for this rulemaking. But you may submit a request for one to the docket using one of the methods specified under ADDRESSES. In your request, explain why you believe a public meeting would be beneficial. If we determine that one would aid this rulemaking, we will hold one at a time and place announced by a later notice in the Federal Register.

II. Abbreviations

DHS Department of Homeland Security

NEPA National Environmental Policy Act of 1969

NPRM Notice of Proposed Rulemaking

NTTAA National Technology Transfer and Advancement Act

III. Regulatory Information

We are publishing this direct final rule under 33 CFR 1.05-55 because we consider this rule to be noncontroversial and we do not expect adverse comments regarding this rulemaking. If no adverse comment or notice of intent to submit an adverse comment is received by February 22, 2011, this rule will become effective as stated in the DATES section. In that case, approximately 30 days before the effective date, we will publish a document in the Federal Register stating that no adverse comment was received and confirming that this rule will become effective as scheduled. However, if we receive an adverse comment or notice of intent to submit an adverse comment, we will publish a notice in the Federal Register announcing the withdrawal of all or part of this direct final rule. If an adverse comment applies only to part of this rule (e.g., to an amendment, a paragraph, or a section) and it is possible to remove that part without defeating the purpose of this rule, we may adopt, as final, those parts of this rule on which no adverse comment was received. We will withdraw the part of this rule that was the subject of an adverse comment. If we decide to proceed with a rulemaking following receipt of an adverse comment, we will publish a separate notice of proposed rulemaking (NPRM) and provide a new opportunity for comment.

A comment is considered “adverse” if the comment explains why this rule or a part of this rule would be inappropriate, including a challenge to its underlying premise or approach, or would be ineffective or unacceptable without a change.

IV. Background

Section 1034 of Title 10 of the United States Code protects communications made by members of the Armed Forces to Members of Congress, Inspectors General, and certain other persons and organizations. It prohibits any person from taking, withholding, or threatening any personnel action against a member of the Armed Forces as reprisal for making or preparing any protected communications. Uniformed members of the Coast Guard are members of the Armed Forces and are covered by section 1034. See 10 U.S.C. 101(a)(4) (defining “Armed Forces” to mean “the Army, Navy, Air Force, Marine Corps, and Coast Guard”). Section 1034 covers allegations and disclosures of sexual harassment and unlawful discrimination, and gives specific procedural rights to a complainant alleging reprisal for making a protected communication. Amending 33 CFR part 53 is necessary to conform Coast Guard regulations to 10 U.S.C. 1034.

V. Discussion of the Rule

The Coast Guard is amending paragraph (a) of section 53.1, Purpose, to expand the list of organizations and persons to whom protected communications may be made. The existing language limits protection to communications made to a Member of Congress or an Inspector General. Under amended paragraph (a), protected communications may also be made to “a member of a Department of Defense or Department of Homeland Security audit, inspection, investigation, or law enforcement organization (e.g., the Coast Guard Investigative Service); any person or organization in the chain of command; and any other person or organization designated pursuant to regulations or other established administrative procedures for such communications.” Through this amendment to paragraph (a), the Coast Guard is designating the Coast Guard Investigative Service as an organization to which a uniformed member of the Coast Guard may make a protected communication. The Coast Guard Investigative Service is a Federal investigative and protective program established to carry out the Coast Guard's internal and external criminal investigations; to assist in providing personal security services; to protect the welfare of Coast Guard personnel; to aid in preserving the internal integrity of the Coast Guard; and to support Coast Guard missions worldwide.

The Coast Guard is amending section 53.5 to revise and add several definitions, including adding a definition of “Protected Communication,” which defines the communications covered by 33 CFR part 53. A “Protected Communication” is (1) any lawful communication to a Member of Congress or an Inspector General; or (2) a communication in which a member of the Coast Guard communicates information that the member reasonably believes evidences a violation of law or regulation (including sexual harassment or unlawful discrimination), gross mismanagement, a gross waste of funds, an abuse of authority, or a substantial and specific danger to public health or safety, when such communication is made to any of the following: A Member of Congress, an Inspector General, or a member of a Department of Defense or Department of Homeland Security audit, inspection, investigation, or law enforcement organization (e.g., the Coast Guard Investigative Service); any person or organization in the chain of command; and any other person or organization designated pursuant to regulations or other established administrative procedures to receive such communications. The Coast Guard is also adding a definition for “Chain of Command,” which tracks a similar definition used by the Department of Defense in implementing 10 U.S.C. 1034.¹

¹ See Department of Defense Directive 7050.06, “Military Whistleblower Protection,” Enclosure 2, section E2.3 (July 23, 2007).

The definition for “Inspector General” is revised to include any other Inspector General appointed under the Inspector General Act of 1978, in addition to the Inspector General in the Office of the Inspector General of the Department of Homeland Security. The revised definition of “Reprisal” now uses the defined term “protected communications.” The Coast Guard is also removing the definition of “Law Specialist” and replacing it with a definition for “Judge Advocate,” which reflects a nomenclature change within the Coast Guard legal program. A similar nomenclature change is made in section 53.9(c)(2): the parenthetical phrase “(who may also be serving as the Judge Advocate General of the Coast Guard)” is added after the term “Chief Counsel.”

The Coast Guard is amending 33 CFR part 53 to utilize these new and revised definitions and to make conforming changes throughout part 53. Sections 53.7 and 53.11 are amended to incorporate the new and revised definitions, and section 53.11 is revised to update the contact information for the DHS Office of the Inspector General. Sections 53.9 and 53.11 are amended to ensure that part 53 consistently covers allegations of personnel action that was taken, withheld, or threatened in reprisal by making consistent use of the terms “taken, withheld, or threatened.” Section 53.9 is also amended to consistently indicate that the “Secretary” referred to is the “Secretary of the Department of Homeland Security.” Finally, section 53.11(b) is amended by adding the words “name(s) of the” before the words “individual(s) believed to be responsible” to clarify what information is required to be included in the complaint to identify the individual or individuals believed to be responsible for the alleged reprisal.

In 33 CFR 53.9, the Coast Guard is revising slightly the responsibilities of the Inspector General to conform to those responsibilities as set forth in 10 U.S.C. 1034. In paragraphs (a)(1) and (2), the Inspector General now must determine whether there is sufficient evidence to warrant an investigation before initiating an investigation of the alleged reprisal. See 10 U.S.C. 1034(c)(3)(A). Such an investigation is necessary only if there was no prior investigation or if the prior investigation was biased or inadequate. See 10 U.S.C. 1034(d). In paragraph (a)(2), the word “reasonably” is inserted to show that information that a Coast Guard member presents as evidence of a reprisal need only be information that the member “reasonably believes” evidences wrongdoing. See 10 U.S.C. 1034(c)(2). Additionally, the last sentence of paragraph (a)(2), which states “The Inspector General is not required to make such an investigation if the information that the Coast Guard member reasonably believes evidences wrongdoing relates to actions that took place during combat,” is removed because similar language was removed from section 1034. See Pub. L. 103-337, 531(c)(2) (replacing 10 U.S.C. 1043(c)(4)).

The time period in which the Inspector General must complete the investigation is revised from “90 days” to “180 days” in 33 CFR 53.9(a)(3) and (a)(5) to align with the statute's requirements. See 10 U.S.C. 1034(e)(3). The Coast Guard is also eliminating the requirement of a final interview of the member alleging reprisal by removing paragraph (a)(7) because a similar requirement was removed from 10 U.S.C. 1034.

Additionally, in section 53.9, the following text is being added to paragraph (a)(4) to clarify what information will be made available to an individual pursuant to a Freedom of Information Act request: “However, the copy need not contain summaries of interviews conducted, nor any document acquired, during the course of the investigation. Such items shall be transmitted to the member, if the member requests the items, with the copy of the report or after the transmittal to the member of the copy of the report, regardless of whether the request for those items is made before or after the copy of the report is transmitted to the member.” See 10 U.S.C. 1034(e)(2).

VI. Regulatory Analysis

We developed this rule after considering numerous statutes and executive orders related to rulemaking. Below we summarize our analysis based on 12 of these statutes or executive orders.

A. Regulatory Planning and Review

This rule is a significant regulatory action under section 3(f) of Executive Order 12866, Regulatory Planning and Review. The Office of Management and Budget has reviewed it under that Order. It requires an assessment of potential costs and benefits under section 6(a)(3) of that Order. However, we believe that a full regulatory analysis is unnecessary because this rule only affects uniformed members of the Coast Guard and DHS personnel and has no economic impact on U.S. industry or the general public.

This rule will benefit the Coast Guard. Because the rule provides protection for uniformed Coast Guard members from retaliation by supervisors or any other member of the Coast Guard, the Coast Guard may now receive information from Coast Guard members on potential breaches of government policies and regulations that they would not otherwise have received. This will ensure that uniformed Coast Guard members receive the same protections Congress affords other uniformed members of the Armed Forces.

B. Small Entities

Under the Regulatory Flexibility Act (5 U.S.C. 601-612), we have considered whether this rule would have a significant economic impact on a substantial number of small entities. The term “small entities” comprises small businesses, not-for-profit organizations that are independently owned and operated and are not dominant in their fields, and governmental jurisdictions with populations of less than 50,000.

This rule provides protection for uniformed Coast Guard members from retaliation and addresses responsibilities of the DHS Inspector General. Because this rule only affects uniformed Coast Guard members and DHS personnel, it is unlikely to have any effect on small businesses.

Therefore, the Coast Guard certifies under 5 U.S.C. 605(b) that this rule will not have a significant economic impact on a substantial number of small entities.

C. Collection of Information

This rule calls for no new collection of information under the Paperwork Reduction Act of 1995 (44 U.S.C. 3501-3520).

D. Federalism

A rule has implications for federalism under Executive Order 13132, Federalism, if it has a substantial direct effect on State or local governments and would either preempt State law or impose a substantial direct cost of compliance on them. We have analyzed this rule under that Order and have determined that it does not have implications for federalism.

E. Unfunded Mandates Reform Act

The Unfunded Mandates Reform Act of 1995 (2 U.S.C. 1531-1538) requires Federal agencies to assess the effects of their discretionary regulatory actions. In particular, the Act addresses actions that may result in the expenditure by a State, local, or tribal government, in the aggregate, or by the private sector of $100,000,000 (adjusted for inflation) or more in any one year. Although this rule will not result in such an expenditure, we do discuss the effects of this rule elsewhere in this preamble.

F. Taking of Private Property

This rule will not effect a taking of private property or otherwise have taking implications under Executive Order 12630, Governmental Actions and Interference with Constitutionally Protected Property Rights.

G. Civil Justice Reform

This rule meets applicable standards in sections 3(a) and 3(b)(2) of Executive Order 12988, Civil Justice Reform, to minimize litigation, eliminate ambiguity, and reduce burden.

H. Protection of Children

We have analyzed this rule under Executive Order 13045, Protection of Children from Environmental Health Risks and Safety Risks. This rule is not an economically significant rule and will not create an environmental risk to health or risk to safety that might disproportionately affect children.

I. Indian Tribal Governments

This rule does not have tribal implications under Executive Order 13175, Consultation and Coordination with Indian Tribal Governments, because it would not have a substantial direct effect on one or more Indian tribes, on the relationship between the Federal Government and Indian tribes, or on the distribution of power and responsibilities between the Federal Government and Indian tribes.

J. Energy Effects

We have analyzed this rule under Executive Order 13211, Actions Concerning Regulations That Significantly Affect Energy Supply, Distribution, or Use. We have determined that it is not a “significant energy action” under that order. Although it is a “significant regulatory action” under Executive Order 12866, it is not likely to have a significant adverse effect on the supply, distribution, or use of energy. The Administrator of the Office of Information and Regulatory Affairs has not designated it as a significant energy action. Therefore, it does not require a Statement of Energy Effects under Executive Order 13211.

K. Technical Standards

The National Technology Transfer and Advancement Act (NTTAA) (15 U.S.C. 272 note) directs agencies to use voluntary consensus standards in their regulatory activities unless the agency provides Congress, through the Office of Management and Budget, with an explanation of why using these standards would be inconsistent with applicable law or otherwise impractical. Voluntary consensus standards are technical standards (e.g., specifications of materials, performance, design, or operation; test methods; sampling procedures; and related management systems practices) that are developed or adopted by voluntary consensus standards bodies.

This rule does not use technical standards. Therefore, we did not consider the use of voluntary consensus standards.

L. Environment

We have analyzed this rule under Department of Homeland Security Directive 023-01 and Commandant Instruction M16475.lD, which guide the Coast Guard in complying with the National Environmental Policy Act of 1969 (NEPA) (42 U.S.C. 4321-4370f), and have concluded that this action is one of a category of actions which do not individually or cumulatively have a significant effect on the human environment. This rule is categorically excluded under section 2.B.2, Figure 2-1, paragraph 34(b), of the Instruction. Paragraph 34(b) covers promulgation of regulations concerning internal agency function or organization or personnel administration. This rule only affects uniformed Coast Guard members and DHS personnel and provides protection from retaliation, and as such concerns internal agency operations. An environmental analysis checklist and a categorical exclusion determination are available in the docket where indicated under the “Public Participation and Request for Comments” section of this preamble.

List of Subjects in 33 CFR Part 53

Administrative practice and procedure, Investigations, Military personnel, Whistleblowing.

For the reasons discussed in the preamble, the Coast Guard amends 33 CFR part 53 as follows:

PART 53—COAST GUARD WHISTLEBLOWER PROTECTION

1. The authority citation for part 53 continues to read as follows:

Authority: 10 U.S.C. 1034, Pub. L. 100-456, 102 Stat. 1918; Pub. L. 101-225, 103 Stat. 1908; Pub. L. 107-296, 116 Stat. 2135.

2. In § 53.1, revise paragraph (a) to read as follows:

§ 53.1 Purpose.

* * * * *

(a) Establishes policy and implements section 1034 of title 10 of the United States Code to provide protection against reprisal to members of the Coast Guard for making a protected communication to a Member of Congress; an Inspector General; a member of a Department of Defense or Department of Homeland Security audit, inspection, investigation, or law enforcement organization (e.g., the Coast Guard Investigative Service); any person or organization in the chain of command; and any other person or organization designated pursuant to regulations or other established administrative procedures for such communications.

* * * * *

3. Amend § 53.5 as follows:

a. Remove the definition for “Law Specialist”; and

b. Revise the definitions for “Inspector General” and “Reprisal” and add the definitions for “Chain of Command”, “Judge Advocate”, and “Protected Communications” in alphabetical order to read as follows:

§ 53.5 Definitions.

* * * * *

Chain of Command. The succession of commanding officers from a superior to a subordinate through which command is exercised; and the succession of officers, enlisted members, or civilian personnel through whom administrative control is exercised, including supervision and rating of performance.

* * * * *

Inspector General. The Inspector General in the Office of Inspector General of the Department of Homeland Security, or any other Inspector General, as appointed under the Inspector General Act of 1978.

Judge Advocate. A commissioned officer of the Coast Guard designated for the special duty of law.

* * * * *

Protected Communication. Any lawful communication to a Member of Congress or an Inspector General; or a communication in which a member of the Coast Guard communicates information that the member reasonably believes evidences a violation of law or regulation (including sexual harassment or discrimination), gross mismanagement, a gross waste of funds or other resources, an abuse of authority, or a substantial and specific danger to public health or safety, when such communication is made to any of the following: A Member of Congress; an Inspector General; a member of a Department of Defense or Department of Homeland Security audit, inspection, investigation, or law enforcement organization (e.g., the Coast Guard Investigative Service); any person or organization in the chain of command; and any other person or organization designated pursuant to regulations or other established administrative procedures to receive such communications.

Reprisal. Taking or threatening to take an unfavorable personnel action, or withholding or threatening to withhold a favorable personnel action, against a member of the Coast Guard for making or preparing to make a protected communication.

* * * * *

4. In § 53.7, revise paragraphs (b) and (c) to read as follows:

§ 53.7 Requirements.

* * * * *

(b) A member of the Coast Guard shall be free from reprisal for making or preparing to make a protected communication.

(c) Any employee or member of the Coast Guard who has the authority to take, direct others to take, or recommend or approve any personnel action shall not, under such authority, take, withhold, threaten to take, or threaten to withhold a personnel action regarding any member of the Coast Guard in reprisal for making or preparing to make a protected communication.

5. Amend § 53.9 as follows:

a. Remove paragraph (a)(7); and

b. Revise paragraphs (a)(1) through (a)(5), (b)(1), (c) introductory text, (c)(1) and (2), (e), and (f) to read as follows:

§ 53.9 Responsibilities.

(a) * * *

(1) Expeditiously determine whether there is sufficient evidence to warrant an investigation of an allegation that a personnel action has been taken, withheld, or threatened in reprisal for making or preparing to make a protected communication. No investigation is required when such allegation is submitted more than 60 days after the Coast Guard member became aware of the personnel action that is the subject of the allegation.

(2) If such investigation is warranted, initiate a separate investigation of the information the Coast Guard member reasonably believes evidences wrongdoing if a prior investigation has not already been initiated, or if the prior investigation was biased or inadequate.

(3) Complete the investigation of the allegation of reprisal and issue a report not later than 180 days after receipt of the allegation, which shall include a thorough review of the facts and circumstances relevant to the allegation, the relevant documents acquired during the investigation, and summaries of interviews conducted. The Inspector General may forward a recommendation as to the disposition of the complaint.

(4) Submit a copy of the investigation report to the Secretary of the Department of Homeland Security and to the Coast Guard member making the allegation not later than 30 days after the completion of the investigation. In the copy of the report transmitted to the member, the Inspector General shall ensure the maximum disclosure of information possible, with the exception of information that is not required to be disclosed under 5 U.S.C. 552. However, the copy transmitted to the member need not contain summaries of interviews conducted, nor any document acquired, during the course of the investigation. Such items shall be transmitted to the member, if the member requests the items, with the copy of the report or after the transmittal to the member of the copy of the report, regardless of whether the request for those items is made before or after the copy of the report is transmitted to the member.

(5) If a determination is made that the report cannot be issued within 180 days of receipt of the allegation, notify the Secretary and the Coast Guard member making the allegation of the reasons why the report will not be submitted within that time, and state when the report will be submitted.

* * * * *

(b) * * *

(1) Consider under 10 U.S.C. 1552 and 33 CFR part 52 an application for the correction of records made by a Coast Guard member who has filed a timely complaint with the Inspector General alleging that a personnel action was taken in reprisal for making or preparing to make a protected communication. This may include oral argument, examining and cross-examining witnesses, taking depositions, and conducting an evidentiary hearing at the Board's discretion.

* * * * *

(c) If the Board elects to hold an administrative hearing, the Coast Guard member may be represented by a Judge Advocate if:

(1) The Inspector General, in the report of the investigation, finds there is probable cause to believe that a personnel action was taken, withheld, or threatened in reprisal for the Coast Guard member making or preparing to make a protected communication;

(2) The Chief Counsel of the Coast Guard (who may also be serving as the Judge Advocate General of the Coast Guard) determines that the case is unusually complex or otherwise requires the assistance of a Judge Advocate to ensure proper presentation of the legal issues in the case; and

* * * * *

(e) If the Board determines that a personnel action was taken, withheld, or threatened as a reprisal for a Coast Guard member making or preparing to make a protected communication, the Board may forward its recommendation to the Secretary of the Department of Homeland Security for appropriate administrative or disciplinary action against the individual or individuals found to have taken, withheld, or threatened a personnel action as a reprisal, and direct any appropriate correction of the member's records.

(f) The Board shall notify the Inspector General of the Board's decision concerning an application for the correction of military records of a Coast Guard member who alleged reprisal for making or preparing to make a protected communication, and of any recommendation to the Secretary of the Department of Homeland Security for appropriate administrative or disciplinary action against the individual or individuals found to have taken, withheld, or threatened a personnel action as a reprisal.

* * * * *

6. In § 53.11, revise paragraphs (a), (b), and (c) to read as follows:

§ 53.11 Procedures.

(a) Any member of the Coast Guard who reasonably believes a personnel action was taken, withheld, or threatened in reprisal for making or preparing to make a protected communication may file a complaint with the Department of Homeland Security Inspector General Hotline at 1-800-323-8603. Such a complaint may be filed: By letter addressed to the Department of Homeland Security, Office of Inspector General, Hotline, Washington, DC 20528; By faxing the complaint to 202-254-4292; or by e-mailing DHSOIGHOTLINE@dhs.gov.

(b) The complaint should include the name, address, and telephone number of the complainant; the name and location of the activity where the alleged violation occurred; the personnel action taken, withheld, or threatened that is alleged to be motivated by reprisal; the name(s) of the individual(s) believed to be responsible for the personnel action; the date when the alleged reprisal occurred; and any information that suggests or evidences a connection between the protected communication and reprisal. The complaint should also include a description of the protected communication, including a copy of any written communication and a brief summary of any oral communication showing the date of communication, the subject matter, and the name of the person or official to whom the communication was made.

(c) A member of the Coast Guard who alleges reprisal for making or preparing to make a protected communication may submit an application for the correction of military records to the Board, in accordance with regulations governing the Board. See 33 CFR part 52.

* * * * *

Dated: December 15, 2010.
Robert J. Papp, Jr.,
Admiral, U.S. Coast Guard Commandant.

[FR Doc. 2010-32017 Filed 12-20-10; 8:45 am]

BILLING CODE 9110-04-P